NATIONAL AERONAUTICS AND SPACE ADMINISTRATION

[Notice: 13-116]

Aerospace Safety Advisory Panel; Charter Renewal

AGENCY: National Aeronautics and Space Administration (NASA).

ACTION: Notice of renewal and amendment of the charter of the Aerospace Safety Advisory Panel.

SUMMARY: Pursuant to sections 14(b)(1) and 9(c) of the Federal Advisory Committee Act (Pub. L. 92-463), and after consultation with the Committee Management Secretariat, General Services Administration, the NASA Administrator has determined that renewal and amendment of the charter of the Aerospace Safety Advisory Panel is in the public interest in connection with the performance of duties imposed on NASA by law. The renewed charter is for a two-year period ending September 12, 2015. It is identical to the previous charter in all respects except it adds verbiage that a member of the panel shall be allowed necessary travel expenses per statute and updates the annual operating cost.

FOR FURTHER INFORMATION CONTACT: Ms. Harmony Myers, Aerospace Safety Advisory Panel Executive Director, Advisory Committee Management Division, Office of International and Interagency Relations, (202) 358-1857, National Aeronautics and Space Administration Headquarters, Washington, DC 20546-0001.

Patricia D. Rausch,
Advisory Committee Management Officer, National Aeronautics and Space Administration.

[FR Doc. 2013-22940 Filed 9-19-13; 8:45 am]

BILLING CODE 7510-13-P